ENVIRONMENTAL PROTECTION AGENCY

40 CFR Part 300

[EPA-HQ-SFUND-1983-0002; FRL-9735-3]

National Oil and Hazardous Substances Pollution Contingency Plan; National Priorities List

AGENCY: Environmental Protection Agency.

ACTION: Withdrawal of direct final rule.

SUMMARY: On August 20, 2012 EPA published a Notice of Intent to Delete and a direct final Notice of Deletion for the Hooker (Hyde Park) Superfund Site from the National Priorities List. The EPA is withdrawing the Final Notice of Deletion due to adverse comments that were received during the public comment period. After consideration of the comments received, if appropriate, EPA will publish a Notice of Deletion in the Federal Register based on the parallel Notice of Intent to Delete and place a copy of the final deletion package, including a Responsiveness Summary, if prepared, in the Site repositories.

DATES: Effective Date: This withdrawal of the direct final action published August 20, 2012 (77 FR 50038) is effective as of September 27, 2012.

ADDRESSES:

Information Repositories: Comprehensive information on the Site, as well as the comments that we received during the comment period, are available in docket EPA-HQ-SFUND-1983-0002, accessed through the http://www.regulations.gov Web site. Although listed in the docket index, some information is not publicly available, e.g., CBI or other information whose disclosure is restricted by statue. Certain other material, such as copyrighted material, will be publicly available only in hard copy. Publicly available docket materials are available either electronically in http://www.regulations.gov or in hard copy at: U.S. Environmental Protection Agency, Region 2, Superfund Records Center, 290 Broadway, 18th Floor, New York, NY 10007-1866, Phone: 212-637-4308, Hours: Monday to Friday from 9 a.m. to 5 p.m. and U.S. EPA Western NY Public Information Office, 86 Exchange Place, Buffalo, NY 14204-2026, Telephone: (716) 551-4410, Hours: Monday to Friday from 8:30 a.m.-4 p.m.

FOR FURTHER INFORMATION CONTACT: Gloria M. Sosa, Remedial Project Manager, U.S. Environmental Protection Agency, Region 2, 290 Broadway, 20th Floor, New York, NY 10007-1866, telephone: 212-637-4283, email: sosa.gloria@epa.gov.

SUPPLEMENTARY INFORMATION:

List of Subjects in 40 CFR Part 300

Environmental protection, Air pollution control, Chemicals, Hazardous Waste, Hazardous substances, Intergovernmental relations, Penalties, Reporting and recordkeeping requirements, Superfund, Water pollution control, Water Supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: September 21, 2012.
Judith A. Enck,
Regional Administrator, Region 2.

Accordingly, the amendment to Table 1 of Appendix B to CFR Part 300 to remove the entry ”Hooker (Hyde Park)”, “Niagara Falls”, “NY” is withdrawn as of September 27, 2012.

[FR Doc. 2012-23819 Filed 9-26-12; 8:45 am]

BILLING CODE 6560-50-P